DEPARTMENT OF LABOR

Employment and Training Administration

[TA-W-57,162]

Gulf Fibers, Inc., Axis, AL; Dismissal of Application for Reconsideration

Pursuant to 29 CFR 90.18(C) an application for administrative reconsideration was filed with the Director of the Division of Trade Adjustment Assistance for workers at Gulf Fibers, Inc., Axis, Alabama. The application contained no new substantial information which would bear importantly on the Department's determination. Therefore, dismissal of the application was issued.

TA-W-57,162; Gulf Fibers, Inc., Axis, Alabama (July 18, 2005).

Signed in Washington, DC this 28th day of July 2005.
Timothy Sullivan,
Director, Division of Trade Adjustment Assistance.

[FR Doc. E5-4216 Filed 8-4-05; 8:45 am]

BILLING CODE 4510-30-P